DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Maryland Department of Transportation Waiver Petition Docket Number FRA-2003-15193

Maryland Department of Transportation (MARC) seeks a temporary waiver of compliance with the Passenger Equipment Safety Standards, 49 CFR part 238 section 103 as it pertains to fire Safety Analysis; Section 303 and 305 as they pertain to exterior and interior calendar day inspection; Section 307 as it pertains to periodic inspection; and Section 311 as it pertains to periodic brake equipment single car test, for nine retired passenger coaches built by the Budd Company in 1949. If the waiver is granted, MARC will perform required inspections with the exception of the fire Safety Analysis to the nine cars and store the equipment in serviceable condition at its Brunswick, MD, facility for utilization in the event of a Public Emergency. During the day the passenger cars utilized to operate MARC's Brunswick line stored at Union Station, Washington, DC, in the event of a Public Emergency that closed or blocked access to Union Station, MARC could use any locomotive available to haul these cars. The plan would be to operate the cars between the extreme ends of the Washington, DC, Metro system and MARC's Martinsburg, WV, and Frederick, MD, stations.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (FRA-2003-15193) and must be submitted to the Docket Clerk, DOT Docket Management Facility, Room PL-401 (Plaza Level), 400 7th Street SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on July 30, 2003.
Grady C. Cothen, Jr.,
Deputy Associate Administrator for Safety Standards and Program Development.

[FR Doc. 03-20021 Filed 8-5-03; 8:45 am]

BILLING CODE 4910-06-P